ENVIRONMENTAL PROTECTION AGENCY

[FRL-6954-4]

National Advisory Council for Environmental Policy and Technology; Public Meeting

AGENCY: Environmental Protection Agency (EPA).

ACTION: Correction, notice of public meeting.

SUMMARY: Under the Federal Advisory Committee Act, Public Law 92463, EPA gives notice of a change to the meeting date of the National Advisory Council for Environmental Policy and Technology (NACEPT). A one-day meeting will be held on March 21, 2001.

The NACEPT is addressing several policy issues associated with EPA's human resource planning and the identification of emerging issues and trends facing the Agency. The NACEPT Council will: present its recommendations regarding EPA's Workforce Capacity efforts to the Agency, and provide an update on the identification of emerging issues and trends facing EPA over the next five to ten years.

DATES: The NACEPT will hold a 1-day public meeting on Wednesday, March 21, from 8:30 a.m. to 5:00 pm.

ADDRESSES: The NACEPT 1-day public meeting will be held at the Latham Hotel, 3000 M Street, NW, Washington, D.C. Materials or written comments may be transmitted to the Council through Gwendolyn Whitt, Designated Federal Officer/NACEPT, U.S. EPA, Office of Cooperative Environmental Management (1601A), 1200 Pennsylvania Avenue NW, Washington, D.C. 20460. The public will have an opportunity to make comments directly to the Council. Oral comments will be limited to a total time of five minutes. Requests to make oral comments must be submitted no later than March 19, 2001 to Gwendolyn Whitt, at the address above or faxed to (202) 501-0661. Anyone who has not reserved time in advance, may make comments during the public comment period as time allows.

FOR FURTHER INFORMATION CONTACT: Gwendolyn Whitt, Designated Federal Officer, NACEPT, at (202) 564-9741.

Dated: March 6, 2001.
Timothy O. Sherer,
Acting Director Office of Cooperative Environmental Management.

[FR Doc. 01-6678 Filed 3-16-01; 8:45 am]

BILLING CODE 6560-50-P